DEPARTMENT OF JUSTICE

Notice of Lodging of Proposed Consent Decree Amendment Under the Clean Water Act

On June 6, 2025, the Department of Justice lodged a proposed Consent Decree Amendment with the United States District Court for the Northern District of Ohio in the lawsuit entitled United States et al. v. City of Youngstown, Ohio, Case No. 4:98-CV-2438.

The proposed Amendment modifies the Clean Water Act Consent Decree originally entered in this case in 2002, including the Long-Term Control Plan (“LTCP”) developed by the City and approved by U.S. EPA and the State of Ohio in 2015. The Consent Decree and LTCP resolved violations of the Clean Water Act (“CWA”) related to ongoing releases of sewage and stormwater from the City of Youngstown's combined sewer system. This Amendment modifies the Consent Decree and LTCP by: (1) replacing the LTCP requirement to complete the “Wet Weather Facility Project” with the requirement to complete the “CSO 6057 Control Measure Project;” which is a proposed 80 million gallon per day (“MGD”) high-rate treatment facility adopting cloth-disk filter media technology for high-rate treatment of wet weather flows; and (2) replacing Chapter 5 of the LTCP with a superseding Chapter 5, including a Revised Implementation Schedule. The Revised Implementation Schedule requires Youngstown to complete the “West-Division Interceptor Sewer Replacement” to reduce combined sewer overflows. It also modifies the implementation schedule for Phase 1 of the LTCP by, among other things, establishing deadlines for the CSO 6057 Control Measure Project, compressing and accelerating the schedule for the “Mill Creek Project,” and moving up deadlines for completing the reports for submitting potential projects to be considered as part of the LTCP's Phase 2.

The publication of this notice opens a period for public comment on the proposed Consent Decree Amendment. Comments should be addressed to the Assistant Attorney General, Environment and Natural Resources Division, and should refer to United States et al. v. City of Youngstown, Ohio, D.J. Ref. No. 90-5-1-1-4383. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the proposed Consent Decree Amendment may be examined and downloaded at this Justice Department website: https://www.justice.gov/enrd/consent-decrees. If you require assistance accessing the proposed Consent Decree Amendment, you may request assistance by email or by mail to the addresses provided above for submitting comments.

Laura Thoms,
Assistant Section Chief, Environmental Enforcement Section, Environment and Natural Resources Division.

[FR Doc. 2025-10680 Filed 6-11-25; 8:45 am]

BILLING CODE 4410-15-P